DEPARTMENT OF THE INTERIOR

Bureau of Land Management

[WO-320-1320-PB-24 1A]

OMB Approval Number 1004-0073; Information Collection Submitted to the Office of Management and Budget Under the Paperwork Reduction Act

The Bureau of Land Management (BLM) has sent a request to extend the current information collection to the Office of Management and Budget (OMB) under the provisions of the Paperwork Reduction Act (44 U.S.C. 3501 et seq.). On July 26, 2002, the BLM published a notice in the Federal Register (67 FR 48936) requesting comment on this information collection. The comment period ended on September 24, 2002. BLM received no comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0073), at OMB-OIRA via facsimile to (202) 395-6566 or e-mail to OIRA DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Coal Management (43 CFR 3400).

OMB Approval Number: 1004-0073.

Bureau Form Number: 3400-12 and 3440-1.

Abstract: The Bureau of Land Management (BLM) collects and uses the information for leasing or developing Federal coal. BLM uses the information to determine if an applicant is qualified to hold a Federal coal lease.

Frequency: Quarterly, monthly, and annually.

Description of Respondents: Individuals, groups, or corporations.

Estimated Completion Time: 10 hours for 3440-1 and 1 hour for 3400-12.

The following chart lists non-form information collection requirements.

Information collection | Public burden HR per action
a. Application for an exploration license | 36
b. Issuance and termination of an exploration license | 12
c. Operations under and modification of an exploration license | 1
d. Collection and submission of data from a exploration license | 18
e. Call for coal resource and other information | 24
f. Surface owner consultation | 1
g. Expression of leasing interest | 0
h. Response to notice of sale (bids received) | 56
i. Consultation with the Attorney General | 4
j. Leasing on application (application received) | 308
k. Surface owner consent | 1
l. Preference right lease application | 800
m. Lease modification | 12
n. License to mine | 21
o. Relinquishments | 18
p. Transfers, assignments, subleases | 10
q. Bond actions (by lease or license) | 8
r. Land description requirements | 2
s. Future interest lease application | 8
t. Special leasing qualification | 3
u. Qualification statement | 3
v. Lease rental and royalty rate reductions | 13
w. Lease suspension | 20
x. Lease form | 1
y. Logical mining units | 170
z. General obligations of the operator lessee | 1
aa. Exploration plans | 30
bb. Resource recovery and protection plan | 192
cc. Modifications to the exploration plans and resource recovery and protection plan | 16
dd. Mining operations maps | 20
ee. Request for payment in lieu of continued operations | 22
ff. Performance standards for exploration | 1
gg. Performance standards for surface and underground coal mines | 1
hh. Exploration reports | 4
ii. Production reports | 10
jj. Notices and orders | 3
kk. Enforcement | 2

Annual Responses: 1,289.

Application Fee Per Response:

| Estimated number of actions | Filing fee per action | Total estimated annual collection
(a) Application for an exploration license | 10 | $250 | $2,500
(j) Leasing on application (applications received) | 15 | 250 | 3,750
(m) Lease modifications | 6 | 250 | 1,500
(n) License to mine | 2 | 10 | 20
(p) Transfers, assignments, subleases | 27 | 50 | 1,350
Total |  |  | 9,120

Annual Burden Hours: 25,585.

Bureau Clearance Officer: Michael Schwartz, (202) 452-5033.

Dated: December 11, 2003.
Michael H. Schwartz,
Bureau of Land Management, Information Collection Clearance Officer.

[FR Doc. 03-31216 Filed 12-17-03; 8:45 am]

BILLING CODE 4310-84-M